DEPARTMENT OF STATE

[Public Notice 5317]

State-14 Foreign Service Institute Records

SUMMARY: Notice is hereby given that the Department of State proposes to alter an existing system of records, STATE-14, pursuant to the Provisions of the Privacy Act of 1974, as amended (5 U.S.C.(r)), and the Office of Management and Budget Circular No. A-130, Appendix I. The Department's report was filed with the Office of Management and Budget on February 9, 2006.

It is proposed that the current system will retain the name “Foreign Service Institute Records.” It is also proposed that due to the expanded scope of the current system, the altered system description will include revisions and/or additions to the following sections: System Location; Categories of Individuals Covered by the System; Authority for Maintenance of the System; and Routine Uses of Records Maintained in the System, Including Categories of Users and Purposes of such Uses. Changes to the existing system description are proposed in order to reflect more accurately the Foreign Service Institute's record-keeping system, the Authority establishing its existence and responsibilities, and the uses and users of the system.

Any persons interested in commenting on the altered system of records may do so by submitting comments in writing to Margaret P. Grafeld, Director; Office of Information Programs and Services; A/RPS/IPS; Department of State, SA-2; Washington, DC 20522-8100. This system of records will be effective 40 days from the date of publication, unless we receive comments that will result in a contrary determination.

The altered system description, “Foreign Service Institute Records,” will read as set forth below.

Dated: February 8, 2006.
Frank Coulter,
Acting Assistant Secretary for the Bureau of Administration, Department of State.

STATE-14

SYSTEM NAME:

Foreign Service Institute Records.

SECURITY CLASSIFICATION:

Unclassified.

SYSTEM LOCATION:

The George P. Shultz National Foreign Affairs Training Center, 4000 Arlington Boulevard, Arlington, VA; Warrenton Training Center, Warrenton, VA; Tunis Field School, American Embassy Tunis, Tunisia; Yokohama Field School, American Embassy Tokyo, Japan; and Seoul Field School, American Embassy Seoul, Korea.

CATEGORIES OF INDIVIDUALS COVERED BY THE SYSTEM:

Persons who requested and/or received training from the Foreign Service Institute, took a language proficiency test given by the Foreign Service Institute, or received external training (including at colleges and universities) sponsored or approved by the Institute including: (1) Employees (and eligible family members thereof) of the Department of State; (2) employees (and eligible family members thereof) of other agencies of the Federal executive, legislative and judicial branches; (3) members (and eligible family members thereof) of the U.S. military; (4) citizens or nationals of the United States, or employees of any corporation, company, partnership, association or other legal entity that is 50 percent or more beneficially owned by citizens or nationals of the United States, that is engaged in business abroad, as well as any family member of such individuals; (5) citizens or nationals of the United States, or employees of any corporation, company, partnership, association or other legal entity that is 50 percent or more beneficially owned by citizens or nationals of the United States, under contract to provide services to the United States Government or to any employee thereof that is performing such services; and (6) applicants for employment at the Department of State.

AUTHORITY FOR MAINTENANCE OF THE SYSTEM:

5 U.S.C. 301 (Management of Executive Agencies); 22 U.S.C. 4021-4028 (Chapter 7 of the Foreign Service Act of 1980).

CATEGORIES OF RECORDS IN THE SYSTEM:

Training request forms and supporting documentation; progress reports; evaluation reports; course grades and/or test scores; general correspondence; biographic information; educational and employment history; security clearance data; travel vouchers; fiscal, i.e., payment or billing, information.

ROUTINE USES OF RECORDS MAINTAINED IN THE SYSTEM, INCLUDING CATEGORIES OF USERS AND PURPOSES OF SUCH USES:

The information in this system is used to document assignments to training and students' progress, and for operation of the training program. The principal users of this information outside the Department are: (1) Other agencies of the legislative, executive and judicial branches that send students to the Institute for training; (2) non-Federal organizations that send students to the Institute for training; (3) universities to whom the Institute sends students for training; and (4) other training vendors to whom the Institute sends students for training.” Also see “Routine Uses” paragraph of the Prefatory Statement published in the Federal Register.

POLICIES AND PRACTICES FOR STORING, RETRIEVING, ACCESSING, RETAINING AND DISPOSING OF RECORDS IN THE SYSTEM:

STORAGE:

Electronic media; hard copy.

RETRIEVABILITY:

Individual name, Social Security Number.

SAFEGUARDS:

All employees of the Department of State have undergone a thorough personnel security background investigation. Access to the Department of State building and the annexes is controlled by security guards, and admission is limited to those individuals possessing a valid identification card or individuals under proper escort. All records containing personal information are maintained in secured filing cabinets or in restricted areas, access to which is limited to authorized personnel. Access to electronic files is password-protected and under the direct supervision of the system manager. The system manager has the capability of printing audit trails of access from the computer media, thereby permitting regular and ad hoc monitoring of computer usage.

RETENTION AND DISPOSAL:

These records will be maintained until they become inactive, at which time they will be destroyed or retired in accordance with published record disposition schedules of the Department of State and as approved by the National Archives and Records Administration. More specific information may be obtained by writing to the Director, Office of Information Programs and Services, A/RPS/IPS, SA-2, Department of State, Washington, DC 20522-8100.

SYSTEM MANAGER AND ADDRESS:

Executive Director for Management, Foreign Service Institute, George P. Shultz National Foreign Affairs Training Center, Room F-2205, Washington, DC 20522-4201.

NOTIFICATION PROCEDURE:

Individuals who have reason to believe that the Foreign Service Institute might have records pertaining to them should write to the Director, Office of Information Programs and Services, A/RPS/IPS, SA-2, Department of State, Washington, DC 20522-8100. The individual must specify that he or she wishes the records of the Foreign Service Institute to be checked. At a minimum, the individual should include: name; date and place of birth; Social Security Number; current mailing address and zip code; signature; a brief description of the circumstances that caused the creation of the record (including the city and/or country and the approximate dates) which gives the individual cause to believe that the Foreign Service Institute has records pertaining to him or her.

RECORD ACCESS AND AMENDMENT PROCEDURES:

Individuals who wish to gain access to or to amend records pertaining to themselves should write to the Director, Office of Information Programs and Services (address above).

RECORD SOURCE CATEGORIES:

These records contain information that is primarily obtained from the individual who is the subject of the records.

SYSTEMS EXEMPTED FROM CERTAIN PROVISIONS OF THE ACT:

Pursuant to 5 U.S.C. 552a(k)(6) records in this system of records may be exempted from 5 U.S.C. 552a(c)(3).(d).(e)(l).(e)(4)(G).(H). and (I) and (f).

[FR Doc. 06-1624 Filed 2-17-06; 8:45 am]

BILLING CODE 4710-24-P